INTERNATIONAL TRADE COMMISSION

[Investigations Nos. 701-TA-393 and 731-TA-829, 830, 833, 834, 836, and 838 (Final)]

Certain Cold-Rolled Steel Products From Argentina, Brazil, Japan, Russia, South Africa, and Thailand

AGENCY: International Trade Commission.

ACTION: Revised schedule for the subject investigations.

EFFECTIVE DATE: Date of commission action.

FOR FURTHER INFORMATION CONTACT: Elizabeth Haines (202-205-3200), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On December 1, 1999, the Commission established a schedule for the conduct of the final phase of the subject investigations (Federal Register 64 FR 67307, December 1, 1999). The Commission received notification of the Department of Commerce's final determinations in these investigations on January 27, 2000. The Commission, therefore, is revising its schedule to conform with Commerce's notification.

The Commission's new schedule for the investigations is as follows: the Commission will release the staff report to parties on February 18, the final release of information will be on February 25; and final party comments are due on February 29.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: February 2, 2000.
Donna R. Koehnke,
Secretary.

[FR Doc. 00-3018 Filed 2-9-00; 8:45 am]

BILLING CODE 7020-02-P